DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a)) with respect to whom the Secretary received information during the quarter ending March 31, 2009.

Last name | First name | Middle name/ initials
Hamilton | Elizabeth
Hamilton | Marcus | M.
Hamilton | Laura | A.
Wu | Ingrid Chunyu | Chynyuan
Ojjeh | Sultan | Mansour.
Beigbeder | Jean | Michel
Hamblin-True | Kathleen | Theresa
Rochlitz | Joseph | S.
Arbib | Tamara | Sara
Recordati | Lavinia | Eugenia Cristina
Gowdey | David | Russell
Vallarino | Rosita | Arias
Rochlitz | Imre
Rochlitz | Irene
Man | Hau | Shing
Conyers | Edith | Gibbons
Wine | Andrea | Marcia
Miller | Ronald | Frederick
Lack | Carol | Ivonne
Mahdavi | Vijak
Ng | Park | Sze-Park
Marshall | Linda | Susan
Faermark | Daniel
Wachters | Johannes | Judocus
Schmalz | David | Harrison
Vischer | Johann | Jakob
Toalni | Rohet | N.
Merendoni | Angela | Maria
Ip | Christopher | Shis-Ming
Wong | Benjamin | Wai-Bun
Baker | David | Allen
Baker | Shannon
Lundin | Virginia | H.
Leung | Bernice | Wing-Yu
Randall | Jonathan | Charles
Chang | Walter
Chow | George
Au | Eric | Wai Pong
Peters | Tom | F.
Wong | Vitus | Chun Hung
Lemos | Michaela
Ohta | Hiroyuki
Kennedy | Rachelle | Beth Kristen
Kennedy | Nigel | James
Li | Lian | Jie
Schumer | Andrew | Robin
Tan | Stephen
Tsang | Stephen | Hoi Pong
Saur-Roberts | Diane | Evelyne Caroline
Steiner | Robert | Marc
Lambert | Constantina | Marie
Lambert | Phillippa | Alice Kingsbury
Dare | Elizabeth | Hodson
Wardman | George | S.
Collins | Michael | W.
Lesser | James | Alexander
Viana | William | Sheehan Barbosa
Abend | Tristan | Maximilian
Tilmant | Gregory | Pierre
De Coquet | Mary | L. Rozsa
Stoeher | Bettina
Sturtevant | Peter | Albert
Macneil | Ian | R.
Zamuner | Robert | F.
Farkas | Edward | Joel
Helbronner | Elizabeth | Boysen
Gardner | John | R.

Dated: April 15, 2009.
Angie Kaminski,
Manager, Team 103, Examinations Operations, Philadelphia Compliance Services.

[FR Doc. E9-10001 Filed 4-29-09; 8:45 am]

BILLING CODE 4830-01-P